DEPARTMENT OF STATE

[Delegation of Authority 339]

Delegation by the Assistant Secretary of State for Educational and Cultural Affairs of Certain Functions to the Principal Deputy Assistant Secretary for Educational and Cultural Affairs

By virtue of the authority vested in me as the Assistant Secretary of State for Educational and Cultural Affairs, including by Delegation of Authority No. 236-3 (August 28, 2000), and to the extent permitted by law, I hereby delegate to the Principal Deputy Assistant Secretary for Educational and Cultural Affairs:

a. The functions in the North/South Center Act of 1991 (22 U.S.C. 2075) (relating to the operation of the Center for Cultural and Technical Interchange between North and South).

b. The functions in the Center for Cultural and Technical Interchange between East and West Act of 1960 (22 U.S.C. 2054) (relating to the operation of the Center for Cultural and Technical Interchange between East and West).

c. The functions in the Arts and Artifacts Indemnity Act (20 U.S.C. 971) (relating to the certification on national interest for exhibits to provide indemnification).

d. Representation of the Secretary of State on the Federal Council on the Arts and Humanities (pursuant to 20 U.S.C. 958).

e. The functions in section 102 of the Mutual Educational and Cultural Exchange Act of 1961, as amended (22 U.S.C. 2452) (relating to the provision by grant, contract or otherwise for a wide variety of educational and cultural exchanges).

Notwithstanding this Delegation, the Secretary, the Deputy Secretary, the Deputy Secretary for Management and Resources, and the Assistant Secretary for Educational and Cultural Affairs may at any time exercise any function or authority delegated herein.

Any reference in this Delegation of Authority to any statute or delegation of authority shall be deemed to be a reference to such statute or delegation of authority as amended from time to time.

This Delegation shall take effect immediately upon signature and shall remain in effect until revoked, or until an Under Secretary for Public Diplomacy and Public Affairs is appointed and enters on duty, whichever occurs first. Nothing in this Delegation of Authority shall be deemed to supersede or revoke any existing delegation of authority, which shall remain in force and effect during and after the term of this Delegation.

Actions taken pursuant to any authority delegated herein, and which have been taken prior to and are in effect on the date of this Delegation, are hereby confirmed and ratified. Such actions shall remain in force as if taken under this Delegation, unless or until rescinded, amended, or superseded.

This Delegation shall be published in the Federal Register.

Dated: July 26, 2011.
Ann Stock,
Assistant Secretary, Educational and Cultural Affairs, U.S. Department of State.

[FR Doc. 2011-20309 Filed 8-9-11; 8:45 am]

BILLING CODE 4710-05-P